FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
Party name | ET req status | Trans No. | ET date
Invitrogen Corporation | G | 20030795 | 11-Aug-03
Dr. Richard P. Haugland and Dr. Rosaria Haugland | G |  |
Molecular Probes, Inc | G |  |
Cypress Merchant Banking Partners II L.P | G | 20030833 |
J.W. Childs Equity Partners II, L.P | G |  |
Meow Mix Holdings, Inc | G |  |
Alliance Data Systems Corporation | G | 20030847 |
Stage Stores, Inc | G |  |
Stage Stores, Inc | G |  |
Cumberland Farms, Inc | G | 20030697 | 12-Aug-03
ConocoPhillips Corp | G |  |
ConocoPhillips Corp | G |  |
American International Group, Inc | G | 20030824 |
General Electric Company | G |  |
GE Property & Casualty Insurance Company | G |  |
Crown Finance Foundation | G | 20030844 |
StoryFirst Communications, Inc | G |  |
StoryFirst Communications, Inc | G |  |
Whitney V, L.P | G | 20030855 |
Matt J. Wollman | G |  |
Interactive Health LLC | G |  |
BASF Aktiengesellschaft | G | 20030846 | 13-Aug-03
Mine Safety Appliances Company | G |  |
Mine Safety Appliances Company | G |  |
nVIDIA Corporation | G | 20030828 | 15-Aug-03
MediaQ, Inc | G |  |
MediaQ, Inc | G |  |
Cisco Systems, Inc | G | 20030849 |
Andiamo Systems, Inc | G |  |
Andiamo Systems, Inc | G |  |
Dex Holdings LLC | G | 20030869 |
Qwest Communications International Inc | G |  |
SGN LLC | G |  |
GPP LLC | G |  |
Thoma Cressey Fund VII, LP | G | 20030831 | 18-Aug-03
Kings Holdings, LLC | G |  |
Daticon, Inc | G |  |
Abbott Laboratories | G | 20030832 |
Mr. Christopher P. Baker | G |  |
ZonePerfect Nutrition Company | G |  |
Associated Materials Holdings, Inc | G | 20030848 |
Gentek Holdings, Inc | G |  |
Gentek Holdings, Inc | G |  |
Bruckmann, Rosser, Sherrill & Co., L.P | G | 20030853 |
Nestle S.A | G |  |
Nestle Prepared Foods Company | G |  |
Phelps Dodge Corporation | G | 20030850 | 19-Aug-03
Phelps Dodge Corporation | G |  |
Chino Mines Company | G |  |
Intelsat Ltd | G | 20030852 |
Loral Space & Communications Ltd | G |  |
Loral Space & Communications Corporation (“LSCC”) | G |  |
Loral Satellite, Inc | G |  |
Loral SpaceCom Corporation | G |  |
Chico's FAS, Inc | G | 20030859 |
The White House, Inc | G |  |
The White House, Inc | G |  |
Fidelity National Financial, Inc | G | 20030863 |
WebTone Technologies, Inc | G |  |
WebTone Technologies, Inc | G |  |
Fox Paine Capital Fund II, L.P | G | 20030876 |
Alfonso Romo Garza | G |  |
Seminis, Inc | G |  |
Globespan Virata, Inc | G | 20030820 | 20-Aug-03
Intersil Corporation | G |  |
SICOM, Inc | G |  |
Choice-Intersil Microsystems, Inc | G |  |
Intersil B.V. and No Wires Needed | G |  |
Intersil Corporation | G | 20030827 |
Globespan Virata, Inc | G |  |
Globespan Virata, Inc | G |  |
Morgenthaler Partners, VII, L.P | G | 20030857 |
Tomkins plc | G |  |
Gates Formed Fibre LLC | G |  |
Trelleborg AB | G | 20030839 | 21-Aug-03
Smiths Group plc | G |  |
Smiths Polymer Sealing Solutions | G |  |
Citigroup Inc | G | 20030821 | 22-Aug-03
Sears, Roebuck and Co | G |  |
Sears Life Insurance Company | G |  |
Sears Financial Holding Corporation | G |  |
Sears Roebuck de Puerto Rico, Inc | G |  |
SRFG, Inc | G |  |
Sears Brands LLC | G |  |
Sears Intellectual Property Management Company | G |  |
Sears Insurance Agency of Massachusetts, Inc | G |  |
Sears Insurance Services of Alabama, LLC | G |  |
Sears Insurance Agency, Inc | G |  |
Sears Insurance Services, LLC | G |  |
SLRR, Inc | G |  |
SVFT, Inc | G |  |
SMTB, Inc | G |  |
Sears Life Holding Corporation | G |  |
Sears National Bank | G |  |
Bain Capital Fund VII, L.P | G | 20030838 |
Allan R. Dragone, Jr | G |  |
Graphic Communications Holdings, Inc | G |  |
Macquarie Global Infrastructure Fund A | G | 20030841 |
KASP Management, L.P | G |  |
Airport Satellite Parking Newark, L.L.C | G |  |
Airport Satellite Parking Riteway, LLC | G |  |
Airport Satellite Parking New Jersey, LLC | G |  |
Airport Satellite Parking Hartford, L.L.C | G |  |
Airport Satellite Parking O'Hare, L.L.C | G |  |
Macquarie Global Infrastructure Fund B | G | 20030842 |
KASP Management, L.P | G |  |
Airport Satellite Parking Newark, L.L.C | G |  |
Airport Satellite Parking Riteway, LLC | G |  |
Airport Satellite Parking New Jersey, LLC | G |  |
Airport Satellite Parking Hartford, L.L.C | G |  |
Airport Satellite Parking O'Hare, L.L.C | G |  |
Smithfield Foods, Inc | G | 20030854 |
Cumberland Gap Provision Company | G |  |
Cumberland Gap Provision Company | G |  |
General Dynamics Corporation | G | 20030862 |
Datron Inc | G |  |
Intercontinental Manufacturing Company | G |  |
Exelon Corporation | G | 20030877 |
Exelon Corporation | G | 20030877 | 22-Aug-03
National Energy Development, Inc | G |  |
Exelon Corporation | G | 20030883 |
Equilease Holding Corp | G |  |
National Energy Development, Inc | G |  |

FOR FURTHER INFORMATION CONTACT: Sandra M. Peay, Contact Representative; or Renee Hallman, Legal Technician, Federal Trade Commission, Premerger Notification Office, Bureau of Competition, Room H-303, Washington, DC 20580, (202) 326-3100.

By Direction of the Commission
Donald S. Clark,
Secretary.

[FR Doc. 03-22412 Filed 9-2-03; 8:45 am]

BILLING CODE 6750-01-M